DEPARTMENT OF COMMERCE

Foreign-Trade Zones Board

[Docket 39-2005]

Foreign-Trade Zone 89 - Las Vegas, Nevada, Request to Remove Zone-Restricted Status Merchandise to U.S. Customs Territory

A request has been made to the Foreign-Trade Zones Board (the Board) by the Nevada Development Authority, grantee of FTZ 89, to remove certain zone-restricted merchandise (carpets from Iran - HTS 5701.10) from the zone to U.S. Customs territory. It was filed on August 5, 2005.

The Foreign-Trade Zones Board regulations provide that merchandise which has been given zone-restricted status (export only status) may be returned to the Customs territory of the United States if the FTZ Board determines that the return would be in the public interest. (See 15 CFR '400.44.) Such returns are considered imports to the United States and are subject to the payment of duties and taxes, to the Customs laws and to other U.S. laws regarding such merchandise.

Public comment on the request is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW, Washington, DC 20005; or

2. Submissions via U.S. Postal Service: Foreign-Trade Zones Board, U.S. Department of Commerce, FCB-4100W, 1401 Constitution Ave., NW, Washington, DC 20230.

The closing period for their receipt is October 17, 2005.

Rebuttal comments in response to material submitted during the foregoing period may be submitted during the subsequent 15-day period (to November 1, 2005.

A copy of the request will be available for public inspection at the Office of the Foreign-Trade Zones Board's Executive Secretary at address No.1 listed above and at Nevada Development Authority, 3733 Howard Hughes Pkwy., Suite 140 South, Las Vegas, Nevada 89109.

Dennis Puccinelli,
Executive Secretary.

[FR Doc. 05-16397 Filed 8-17-05; 8:45 am]

BILLING CODE 3510-DS-S